DEPARTMENT OF COMMERCE

National Oceanic and Atmospheric Administration

RIN 0648-XA931

New England Fishery Management Council; Public Meeting

AGENCY: National Marine Fisheries Service (NMFS), National Oceanic and Atmospheric Administration (NOAA), Commerce.

ACTION: Notice of a public meeting.

SUMMARY: The New England Fishery Management Council (Council) will hold a three-day meeting from January 31, 2012, through February 2, 2012 to consider actions affecting New England fisheries in the exclusive economic zone (EEZ).

DATES: The meeting will be held on Tuesday, January 31 through Thursday, February 2, 2012, starting at 9 a.m. on Tuesday, 8 a.m. on Wednesday, and 8:30 a.m. on Thursday.

ADDRESSES: The meeting will be held at the Sheraton Portsmouth Harborside Hotel, 250 Market Street, Portsmouth, NH 03801-3478; telephone: (603) 431-2300; fax: (603) 431-7805.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION:

Tuesday, January 31, 2012

Following introductions and any announcements, brief reports will be presented by the Council Chairman and Executive Director, NOAA Fisheries Regional Administrator (Northeast Region), Northeast Fisheries Science Center and Mid-Atlantic Fishery Management Council liaisons, as well as NOAA General Counsel, representatives of the U.S. Coast Guard and the Atlantic States Marine Fisheries Commission, and staff from the Vessel Monitoring Systems Operations and Law Enforcement offices. During this period, the Council also will receive an update on the activities of the Northeast Regional Ocean Council. That discussion will be followed by a review of any experimental fishery permit applications that have been made available since the November 2011 Council meeting.

The Council will then receive an update on progress to date on Essential Fish Habitat (EFH) Omnibus 2, which is focusing on the development of management alternatives to minimize the adverse effects of fishing activities on essential fish habitat and the protection of deep sea corals. Next, the Council's Research Steering Committee will review its findings on a number final cooperative research projects and its ongoing discussions with NOAA Fisheries about accounting for scientific research catch and the sale of that catch. An open period for public comments will follow during which any interested party may provide brief comments on issues relevant to Council business but not listed on the meeting agenda.

Following a lunch break, Council staff will present a white paper outlining the details of a draft Fishery Management Plan Performance Evaluation process. This will include a question and answer session for both the Council and public. This is part of the Council's actions to respond to the Touchstone Report on the fisheries management process in New England. The Bureau of Ocean Energy Management (BOEM) will present an update and discuss several New England offshore wind energy projects and proposals. The day will conclude with a report from the Council's Sea Scallop Committee. The committee's intent is to request initiation of Framework 24 to the Sea Scallop Fishery Management Plan (FMP). That action will include fishery specifications for fishing years 2013 and 2014, as well as several additional measures identified by the Council in priority order: (1) Possible modification of Georges Bank access area opening dates; (2) measures to address sub-annual catch limits for yellowtail flounder for the limited access general category (LAGC) trawl fishery; and (3) leasing LAGC Individual Fishing Quota (IFQ) fish mid-year.

Wednesday, February 1, 2012

The day will begin with a summary of Stock Assessment Workshop (SAW) 53 results and possibly the subsequent peer review of the Gulf of Maine cod and black sea bass assessments addressed during the SAW. The Scientific and Statistical Committee's (SSC) report will follow, during which the committee chairman will provide an overview of SSC's December 2012 planning meeting, including the use of social science information in the development of a risk policy for ABC recommendations, a process for addressing cod discard mortality in the groundfish hook fishery and SSC outreach. There also will be a detailed report of the committee's January 25, 2012 discussion and any decisions about the status of Gulf of Maine (GOM) cod.

Following the SSC's report, the Council will receive a briefing on new Marine Recreational Information Program estimates of recreational catch for 2004 to 2011. The Council's interest here is Gulf of Maine cod and haddock. The Groundfish Committee will then report on a range of issues. These include a report on the Northeast Multispecies FMP Amendment 18 scoping hearings concerning accumulation limits, the development of a course of action to address the recent Gulf of Maine cod stock assessment and a possible request to NOAA Fisheries for emergency action to address overfishing of that stock. There will be an update concerning progress on a new sector framework adjustment and potential modifications to the groundfish closed areas in effect in the FMP. Finally, there will be a presentation on the Rednet Project, a cooperative fishermen/scientific effort to redevelop a sustainable redfish trawl fishery. This may be followed by a review of recent sector exemption requests and any related Council recommendations.

Thursday, February 2, 2012

The last day of the Council meeting will begin with development of comments on the Small Mesh Multispecies Secretarial Amendment, an action that which will address the small mesh hake fishery and is scheduled to become effective on May 1, 2012. The Council also will be asked to approve final Draft Amendment 19 to Northeast Multispecies FMP for purposes of holding public hearings on the proposed alternatives. This will be followed by a discussion of progress to develop a range of alternatives for consideration in Amendment 6 to the Monkfish FMP. The Council also will consider adopting a committee recommendation to establish a control date for use in the development of future management measures including, but not limited to, catch shares and accumulation limits. There will be a briefing by NOAA Fisheries concerning its intent to prepare an Environmental Impact Statement and FMP amendment that would consider catch shares for the Atlantic shark fisheries. Council meeting adjournment will take place once the Enforcement Committee asks for Council input on recommendations concerning gear stowage and NOAA Enforcement's draft priorities document.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: January 10, 2012.
Tracey L. Thompson,
Acting Director, Office of Sustainable Fisheries, National Marine Fisheries Service.

[FR Doc. 2012-553 Filed 1-12-12; 8:45 am]

BILLING CODE 3510-22-P